DEPARTMENT OF DEFENSE

Office of the Secretary

[Docket ID: DoD-2024-OS-0059]

Proposed Collection; Comment Request

AGENCY: The Office of the Under Secretary of Defense for Personnel & Readiness, (OUSD(P&R)), Department of Defense (DoD).

ACTION: 60-Day information collection notice.

SUMMARY: In compliance with the Paperwork Reduction Act of 1995, the Deputy Assistant Secretary of Defense for Military Personnel Policy announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 29, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Deputy Assistant Secretary of Defense for Military Personnel Policy 1500 Defense Pentagon, Washington, DC 20301-1500, CDR James Golliday, (703) 693-9075.

SUPPLEMENTARY INFORMATION: Title; Associated Form; and OMB Number: Application for Transitional Compensation; DD Form 2698; OMB Control Number 0704-0578.

Needs and Uses: DoD Instruction (DoDI) 1342.24, “Transitional Compensation (TC) for Abused Dependents,” establishes policy in accordance with section 1059 of title 10, U.S.C., “Dependents of members separated for dependent abuse: TC; commissary and exchange benefits; lodging expenses.” In order to validate eligibility for the benefit and to ensure payment to the appropriate claimant, the Services obtain information from the abused dependents or their legal representative. This includes personal identifiable information such as name, social security numbers, dates of birth, etc. In order to collect this information, DoDI 1342.24 directs the Service representatives to use DD Form 2698, “Application for TC.” The potential claimant travels to the office of the Service representative at the closest military installation. The Service representative provides the potential claimant with a blank hard-copy DD Form 2698 to ensure they meet the eligibility requirements for the pay, identify the number of dependent children in the payee's custody, and to obtain the current address of the eligible dependent(s) or their legal representative. The claimant will complete Section I and the Service representative will complete Sections II and III of DD Form 2698. The form is then scanned and sent electronically via secure email to Defense Finance Accounting Service (DFAS) to complete Section IV of DD Form 2698. Once confirmation of eligibility is made by DFAS, the claimant will begin receiving benefits. All records, both electronic and hard-copy, are filed/stored on a secure database and/or in a secure workspace in accordance with Department of Defense records management protocol.

Affected Public: Individuals or households.

Annual Burden Hours: 167.

Number of Respondents: 500.

Responses per Respondent: 1.

Annual Responses: 500.

Average Burden per Response: 20 minutes.

Frequency: As required.

Dated: May 22, 2024.
Aaron T. Siegel,
Alternate OSD Federal Register Liaison Officer, Department of Defense.

[FR Doc. 2024-11622 Filed 5-24-24; 8:45 am]

BILLING CODE 6001-FR-P